DEPARTMENT OF HEALTH AND HUMAN SERVICES

Administration for Children and Families

Submission for Office of Management and Budget (OMB) Review; Sexual Risk Avoidance Education Performance Analysis Study—Extension (OMB #0970-0536)

AGENCY: Office of Planning, Research, and Evaluation (OPRE), Administration for Children and Families (ACF), U.S. Department of Health and Human Services (HHS).

ACTION: Request for public comment.

SUMMARY: OPRE and the Family and Youth Services Bureau (FYSB) request an extension without changes to a currently approved information collection activity as part of the Sexual Risk Avoidance Education Performance Analysis Study (SRAE PAS) (OMB Control No. 0970-0536; expiration date October 31, 2022). The goal of the study is to collect, analyze, and report on performance measures data for the SRAE program.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: The purpose of the SRAE program is to educate youth on how to voluntarily refrain from nonmarital sexual activity and prevent other youth risk behaviors. The requested extension will allow ACF to continue to collect the performance measures from SRAE grantees. Data will continue to be used to determine if the SRAE grantees are meeting performance benchmarks related to their program's mission and priorities. The program office will continue to use the data to provide technical assistance to grantees and for its own reporting purposes.

Respondents: Departmental SRAE (DSRAE), State SRAE (SSRAE), and Competitive SRAE (CSRAE) grantees, their sub recipients, and program participants.

Annual Burden Estimates
Instrument | Number of respondents (total over request period) | Number of responses per respondent (total over request period) | Average burden per response (in hours) | Total burden (in hours) | Annual burden (in hours)
(1) Participant Entry Survey
DSRAE participants | 378,390 | 1 | 0.1333 | 50,439 | 16,813
SSRAE participants | 952,899 | 1 | 0.1333 | 127,021 | 42,340
CSRAE participants | 60,408 | 1 | 0.1333 | 8,052 | 2,684
(2) Participant Exit Survey
DSRAE participants | 302,712 | 1 | 0.1667 | 50,462 | 16,821
SSRAE participants | 762,319 | 1 | 0.1667 | 127,079 | 42,360
CSRAE participants | 48,326 | 1 | 0.1667 | 8,056 | 2,685
(3) Performance reporting data entry form: grantees
DSRAE grantees | 119 | 6 | 16 | 11,424 | 3,808
SSRAE grantees | 39 | 6 | 16 | 3,744 | 1,248
CSRAE grantees | 34 | 6 | 16 | 3,264 | 1,088
(4) Performance reporting data entry form: subrecipients
DSRAE subrecipients | 252 | 6 | 13 | 19,656 | 6,552
SSRAE subrecipients | 426 | 6 | 13 | 33,228 | 11,076
CSRAE subrecipients | 63 | 6 | 13 | 4,914 | 1,638

Estimated Total Annual Burden Hours: 149,113.

Authority: 42 U.S.C 1310.

Mary B. Jones,
ACF/OPRE Certifying Officer.

[FR Doc. 2022-19256 Filed 9-6-22; 8:45 am]

BILLING CODE 4184-83-P